DEPARTMENT OF DEFENSE

Department of the Army

[Docket ID USA-2019-HQ-0019]

Submission for OMB Review; Comment Request

AGENCY: United States Army Corps of Engineers, DoD.

ACTION: 30-Day information collection notice.

SUMMARY: The Department of Defense has submitted to OMB for clearance the following proposal for collection of information under the provisions of the Paperwork Reduction Act.

DATES: Consideration will be given to all comments received by September 30, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Vessel Operation Reporting; ENG Form 3926, ENG Form 3925, ENG Form 3925B, ENG Form 3925C, ENG Form 3925P; OMB Control Number 0710-0006.

Type of Request: Extension.

Number of Respondents: 840.

Responses per Respondent: 12.

Annual Responses: 10,080.

Average Burden per Response: 1 Hour.

Annual Burden Hours: 10,080.

Needs and Uses: The information collection requirement is necessary to determine usage on the nation's waterway network. The WCSC and the LPMS databases are the sole government sources for information in the United States on domestic waterborne commerce and lock or canal operation. The Army Corps of Engineers is the agency charged with the collection of this data due to its responsibility for the planning, design, construction, rehabilitation, operation, and maintenance of the inland waterway systems, the Great Lakes, and the channels of the coastal ports.

The aggregate data collected under these programs are published in the annual publications, Waterborne Commerce of the United States, Parts 1-5, Lock Performance Monitoring System Quarterly Reports, and Waterborne Transportation Lines of the United States. Each data base and publication provide essential information for an understanding of the utilization of our Nation's navigation systems and the fleet using these systems. The data bases provide essential information to those with the responsibilities over the physical system or to those involved in shipping or moving commodities on the Nation's waterways.” [River and Harbor Act of September 22, 1922 (42 Stat. 1043)].

Affected Public: Individuals or Households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: August 27, 2019.
Morgan E. Park,
Alternate OSD Federal Register Liaison Officer, Department of Defense.

[FR Doc. 2019-18768 Filed 8-29-19; 8:45 am]

BILLING CODE 5001-06-P